DEPARTMENT OF ENERGY

Federal Energy Regulatory Commission

[Docket No. CP02-386-000]

MDU Resources Group, Inc.; Notice of Application

June 21, 2002.

Take notice that on June 12, 2002, MDU Resources Group, Inc.(MDU), 918 East Divide Avenue, Bismarck, North Dakota 58506, filed in Docket No. CP02-386-000 , an application pursuant to Section 7(f) of the Natural Gas Act (NGA) for a determination of a service area, a declaration that MDU qualifies as a local distribution company (LDC) and a waiver of the regulatory requirements under the NGA and the Natural Gas Policy Act (NGPA), all as more fully set forth in the application which is on file with the Commission and open to public inspection. Copies of this filing are on file with the Commission and are available for public inspection. This filing may be viewed on the web at http://www.ferc.gov using the “RIMS” link, select “Docket #” from the RIMS Menu and follow the instructions (call (202) 208-2222 for assistance).

MDU requests a service area determination for the area it serves in Otter Tail and Wilkin Counties, Minnesota, and Richland County, North Dakota in order to be able to enlarge or extend its facilities for the purpose of supplying increased market demands without the need to apply to the Commission for further authorization. MDU also requests a declaration that it qualifies as an LDC in the service area to be determined for the purposes of section 311 of the NGPA. In addition, MDU requests a waiver of the regulatory requirements ordinarily applicable to natural gas companies under the NGA and the NGPA. It is asserted that MDU's operations are almost entirely in intrastate commerce, with the exception of a small portion extending across the Minnesota-North Dakota border in order to serve the Richland County market. It is stated that MDU's services and rates are regulated by the Minnesota Public Utilities Commission and the North Dakota Public Service Commission.

Any questions regarding this amendment should be directed to Douglas W. Schultz, Senior Attorney, MDU Resources Group, Inc., at (701) 222-7613.

There are two ways to become involved in the Commission's review of this project. First, any person wishing to obtain legal status by becoming a party to the proceedings for this project should, on or before July 12, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-16248 Filed 6-26-02; 8:45 am]

BILLING CODE 6717-01-P